SECURITIES AND EXCHANGE COMMISSION

[Release No. 34-48556A; File No. SR-CBOE-2001-04]

Self Regulatory Organizations; Notice of Filing of Proposed Rule Change and Amendment Nos. 1, 2, and 3 Thereto by the Chicago Board Options Exchange, Inc., and Order Granting Partial Accelerated Approval on a Pilot Basis of the Proposed Rule Change, as Amended, To Adopt a New Rule Regarding Nullification and Adjustment of Transactions

October 23, 2003.

Correction

In FR Document No. 03-25263, beginning on page 57716 for Monday October 6, 2003, the last full sentence in the text of column 2 on page 57720, which states that the provisions of the proposed rule change are in effect on a pilot basis until December 3, 2003, was incorrectly stated. The sentence should read as follows:

Furthermore, pursuant to Amendment No. 3 to the proposed rule change, these provisions of the proposed rule change are in effect on a pilot basis until December 1, 2003.

For the Commission, by the Division of Market Regulation, pursuant to delegated authority.¹
¹ 17 CFR 200.30-3(a)(12).
Margaret H. McFarland,
Deputy Secretary.

[FR Doc. 03-27226 Filed 10-28-03; 8:45 am]

BILLING CODE 8010-01-P